DEPARTMENT OF COMMERCE

International Trade Administration

[A-428-847, A-533-893, A-475-840]

Forged Steel Fluid End Blocks From the Federal Republic of Germany, India and Italy: Postponement of Preliminary Determinations in the Less-Than-Fair-Value Investigations

AGENCY: Enforcement and Compliance, International Trade Administration, Department of Commerce.

DATES: Applicable March 26, 2020.

FOR FURTHER INFORMATION CONTACT: Katherine Johnson at (202) 482-4929 (Federal Republic of Germany (Germany)), Michael Romani at (202) 482-0198 (India), or Dmitry Vladimirov at (202) 482-0665 (Italy), AD/CVD Operations, Enforcement and Compliance, International Trade Administration, U.S. Department of Commerce, 1401 Constitution Avenue NW, Washington, DC 20230.

SUPPLEMENTARY INFORMATION:

Background

On January 8, 2020, the Department of Commerce (Commerce) initiated less-than-fair-value (LTFV) investigations of imports of forged steel fluid end blocks (fluid end blocks) from Germany, India, and Italy.¹ The deadline for the preliminary determinations is May 27, 2020.

¹ See Forged Steel Fluid End Blocks from the Federal Republic of Germany, India, and Italy: Initiation of Less-Than-Fair-Value Investigations, 85 FR 2394 (January 15, 2020) (Initiation Notice).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 5, 2020, the petitioners ² submitted a timely request that Commerce postpone the preliminary determinations in these LTFV investigations.³ The petitioners stated that they request postponement due to the complexity of the investigations and the amount of time that Commerce will need to conduct a complete and thorough analysis, including the issuance of supplemental questionnaires.⁴ The petitioners request that Commerce fully extend the preliminary determinations by 50 days.

² The petitioners are the FEB Fair Trade Coalition, Ellwood Group, and Finkl Steel.

³ See Petitioners' Letter, “Forged Steel Fluid End Blocks from Germany, India, and Italy: Request to Extend Preliminary Results,” dated March 5, 2020.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than July 16, 2020. In accordance with section 735(a)(1) of the Act and 19 CFR 351.210(b)(1), the deadline for the final determinations in these investigations will continue to be 75 days after the date of the preliminary determinations, unless postponed at a later date.

This notice is issued and published pursuant to section 733(c)(2) of the Act and 19 CFR 351.205(f)(1).

Dated: March 19, 2020.
Jeffrey I. Kessler,
Assistant Secretary for Enforcement and Compliance.

[FR Doc. 2020-06335 Filed 3-25-20; 8:45 am]

BILLING CODE 3510-DS-P